DEPARTMENT OF THE INTERIOR

National Park Service

Fire Management Plan, Final Environmental Impact Statement, Record of Decision, Grand Canyon National Park, AZ

AGENCY: National Park Service, Department of the Interior.

ACTION: Notice of Availability of a Record of Decision on the Final Environmental Impact Statement for the Fire Management Plan, Grand Canyon National Park.

SUMMARY: Pursuant to the National Environmental Policy Act of 1969, 42 U.S.C. 4332(2)(C), the National Park Service announces the availability of the Record of Decision for the Fire Management Plan, Grand Canyon National Park, Arizona. On January 12, 2010, the Regional Director, Intermountain Region, approved the Record of Decision for the project. As soon as practicable, the National Park Service will begin to implement the Preferred Alternative contained in the FEIS issued on August 7, 2009.

The document describes and analyzes the environmental impacts of several action alternatives, including the preferred alternative for management of fire in Grand Canyon National Park. The preferred alternative analyzes the use of prescribed fire, wildland fire use, suppression fire, and manual and mechanical thinning. A no-action alternative was also evaluated. Alternative 2 (Mixed Fire Treatment) was selected as the preferred alternative. The Record of Decision includes a statement of the decision made, synopses of other alternatives considered, the basis for the decision, a description of the environmentally preferable alternative, a finding of no impairment of park resources and values, a listing of measures to minimize environmental harm, and an overview of public involvement in the decision-making process.

FOR FURTHER INFORMATION CONTACT: Chris Marks, Project Lead, Fire Management Plan, P.O. Box 129, Grand Canyon, Arizona 86023, christopher_marks@nps.gov or at 928-638-7417.

SUPPLEMENTARY INFORMATION: Copies of the Record of Decision may be obtained from the contact listed above or online at http://parkplanning.nps.gov/grca.

Dated: January 15, 2010.
Michael D. Snyder,
Regional Director, Intermountain Region, National Park Service.

[FR Doc. 2010-4414 Filed 3-4-10; 8:45 am]

BILLING CODE P